DEPARTMENT OF COMMERCE

National Oceanic and Atmospheric Administration

[0648-XR005]

Endangered and Threatened Species; Take of Anadromous Fish

AGENCY: National Marine Fisheries Service (NMFS), National Oceanic and Atmospheric Administration (NOAA), Department of Commerce.

ACTION: Notice; availability of a draft Environmental Assessment, Proposed Evaluation and Pending Determination, and Hatchery and Genetic Management Plans for public comment.

SUMMARY: Notice is hereby given that NMFS has received 16 plans for hatchery programs rearing and releasing Chinook salmon, coho salmon, and summer steelhead in the Snake River basin. The plans describe hatchery programs operated by the Idaho Department of Fish and Game (IDFG), Nez Perce Tribe (NPT), and Washington Department of Fish and Wildlife (WDFW). This document serves to notify the public of the availability and opportunity to comment on a draft Environmental Assessment (EA), four Hatchery and Genetic Management Plans (HGMPs), and three Proposed Evaluation and Determination Documents (PEPDs) on the proposed hatchery programs.

DATES: Comments must be received at the appropriate address (see ADDRESSES) no later than 5:00 p.m. Pacific time on July 29, 2019. Comments received after this date may not be considered.

ADDRESSES: Written comments should be addressed to the NMFS Sustainable Fisheries Division, 1201 NE Lloyd Blvd., Portland, OR 97232. Comments may be submitted by email. The mailbox address for providing email comments is: Hatcheries.Public.Comment@noaa.gov. Include in the subject line of the email comment the following identifier: Comments on Snake River hatchery programs.

FOR FURTHER INFORMATION CONTACT: Emi Kondo at (503) 736-4739 or by email at emi.kondo@noaa.gov.

SUPPLEMENTARY INFORMATION:

ESA-Listed Species Covered in This Notice

• Chinook salmon (Oncorhynchus tshawytscha): threatened, naturally and artificially propagated;

○ Snake River Fall-run (O. tshawytscha): threatened, naturally and artificially propagated;

○ Snake River Spring/Summer run: threatened, naturally and artificially propagated;

• Snake River Steelhead (O. mykiss): threatened, naturally and artificially propagated;

• Snake River Sockeye (O. nerka): endangered, naturally and artificially propagated.

Background

Section 9 of the Endangered Species Act (ESA) and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for programs that are approved by NMFS under section 4(d) of the ESA (50 CFR 223.203(b)).

Twelve of the plans are submitted pursuant to the Tribal 4(d) Rule or limit 6 of the 4(d) Rule. Four of the plans are submitted pursuant to limit 5 of the 4(d) Rule. The plans describe hatchery programs operated by the Idaho Department of Fish and Game (IDFG), Nez Perce Tribe (NPT), and Washington Department of Fish and Wildlife (WDFW). The programs are funded by the United States Fish and Wildlife Service (USFWS) through the Lower Snake Compensation Plan (LSRCP), Idaho Power Company (IPC), and the Bonneville Power Administration (BPA). The operators and funding agencies, including the NPT, WDFW, IDFG, LSRCP, IPC, and BPA, have submitted HGMPs to NMFS pursuant to NMFS' 4(d) Rule of the ESA for hatchery activities in the Snake River basin.

The programs are intended to contribute to the survival and recovery of Snake River Spring/summer Chinook salmon and Snake River Basin steelhead in the Snake River basin, and enhance fishing opportunity.

Authority

Under section 4 of the ESA, the Secretary of Commerce is required to adopt such regulations as he deems necessary and advisable for the conservation of species listed as threatened. The ESA salmon and steelhead 4(d) Rule (65 FR 42422, July 10, 2000, as updated in 70 FR 37160, June 28, 2005) specifies categories of activities that contribute to the conservation of listed salmonids and sets out the criteria for such activities. The Tribal 4(d) Rule (65 FR 42481, July 10, 2000) (50 CFR 223.204) states that the ESA section 9 take prohibitions will not apply to Tribal Plans that will not appreciably reduce the likelihood of survival and recovery for the listed species.

Dated: June 7, 2019.
Angela Somma,
Chief, Endangered Species Conservation Division, Office of Protected Resources, National Marine Fisheries Service.

[FR Doc. 2019-13759 Filed 6-27-19; 8:45 am]

BILLING CODE 3510-22-P